NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 15, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: (301) 837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the new address for requesting schedules using e-mail):

1. Department of Agriculture, Agricultural Research Service (N1-310-05-1, 47 items, 43 temporary items). Records accumulated by the National Arboretum, including such records as correspondence files, reports, publications, routine exhibit and events files, budget, personnel, procurement, and travel files, donation and bequest records, fee-for-service files, press releases, photographs, education program files, and records of the plant and bonsai artifacts collections. The electronic version of the Arboretum website and electronic copies of records created using electronic mail and word processing are also included. Proposed for permanent retention are recordkeeping copies of significant files accumulated by the director and the master files and documentation for a database describing the Arboretum's plant holdings.

2. Department of Education, Office of Intergovernmental and Interagency Affairs (N1-441-05-3, 5 items, 4 temporary items). Records accumulated by committees whose activities do not relate to the agency's basic mission and are not subject to the Federal Advisory Committee Act. Also included are files accumulated by individual members of agency committees and electronic copies of records created using electronic mail and word processing. Proposed for permanent retention are recordkeeping copies of correspondence, minutes of meetings, reports, and other records accumulated by mission-related agency committees.

3. Department of Energy, Office of Hearings and Appeals (N1-434-04-1, 3 items, 3 temporary items). Records relating to reimbursements from overcharges on purchases of refined petroleum products. Also included are electronic copies of records created using electronic mail and word processing.

4. Department of Health and Human Services, Food and Drug Administration (N1-88-04-3, 22 items, 20 temporary items). Administrative records, including administrative delegations of authority, unapproved directives and manuals, Inspector General records, grants, and electronic administrative support systems, including all master data files, input records, system documentation, and outputs. Also included are electronic copies of records created using electronic mail and word processing. Recordkeeping copies of approved organization directives and program delegations of authority are proposed for permanent retention. This schedule authorizes the agency to apply the proposed disposition instructions to any recordkeeping medium.

5. Department of Justice, Bureau of Prisons (N1-129-05-5, 5 items, 5 temporary items). Inputs, outputs, master files, and system documentation associated with an electronic system which tracks and manages agency alternative program items purchases. Also included are electronic copies of records created using electronic mail and word processing.

6. Department of Justice, Bureau of Prisons (N1-129-05-9, 2 items, 2 temporary items). Inmate drug treatment certification files, including electronic copies of records created using electronic mail and word processing.

7. Department of Justice, Bureau of Prisons (N1-129-05-10, 2 items, 2 temporary items). Court-ordered evaluations of prisoners used primarily to establish fitness to stand trial. Also included are electronic copies of records created using electronic mail and word processing.

8. Department of Justice, Bureau of Alcohol, Tobacco, Firearms, and Explosives (N1-436-05-5, 5 items, 5 temporary items). Outputs, master files, and documentation for an electronic system which maintains copies of firearm records from gun dealers who no longer are in business. Also included are electronic copies of documents created using electronic mail and word processing.

9. Department of the Treasury, Financial Management Service (N1-425-05-4, 14 items, 14 temporary items). Records of the Office of Legislative and Public Affairs, including such files as congressional and public inquiries, legislative proposals, monthly and weekly status reports, and website management records. Also included are electronic copies of records created using electronic mail and word processing.

10. United States Information Agency, Information Center Service (N1-306-98-3, 58 items, 12 temporary items). Book orders and shipping documents, grantee orientations, distribution sheets, requisitions, project files, correspondence with publishers, and other records lacking historical significance. Proposed for permanent retention are subject, country, and specialized files of the Information Center Service, a long-defunct office. Records were accumulated primarily between the 1940s and the late 1960s.

Dated: June 22, 2005.
Michael J. Kurtz,
Assistant Archivist for Records Services—Washington, DC.

[FR Doc. 05-12826 Filed 6-28-05; 8:45 am]

BILLING CODE 7515-01-P